DEPARTMENT OF COMMERCE

[I.D. 060500LE]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Project Design for Research, Exploration, or Salvage of the R.M.S. Titanic and/or Its Artifacts.

Form Number(s): None.

OMB Approval Number: None.

Type of Request: Regular submission.

Burden Hours: 48.

Number of Respondents: 2.

Average Hours Per Response: 12 hours per project design or report.

Needs and Uses: The R.M.S. Titanic Act of 1986 directs NOAA to enter into consultations with other nations to develop international guidelines for research on, exploration of, or salvage of the Titanic. Proposed guidelines are being published. They include requests for the voluntary submission of project designs and later reports. The information will allow NOAA to assess the potential and actual impacts of activities.

Affected Public: Business or other for-profit institutions, not-for-profit organizations.

Frequency: On occasion.

Respondent's Obligation: Voluntary.

OMB Desk Officer: David Rostker, (202) 395-3897.

Copies of the above information collection proposal can be obtained by calling or writing Linda Engelmeier, DOC Forms Clearance Officer, (202) 482-3272, Department of Commerce, Room 6066, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: June 1, 2000.
Madeleine Clayton,
Management Analyst, Office of the Chief Information Officer.

[FR Doc. 00-14527 Filed 6-8-00; 8:45 am]

BILLING CODE 3510-08-F